DEPARTMENT OF COMMERCE

International Trade Administration

Exemption of Foreign Air Carriers From Excise Taxes; Discontinuance of Exemption; Republic of Bolivia

AGENCY: International Trade Administration, U.S. Department of Commerce.

ACTION: Notification to the Secretary of Treasury by the Secretary of Commerce, or his designee, of the discontinuance of the existing exemption for aircraft registered in the Republic of Bolivia from certain internal revenue taxes on the purchase of supplies in the United States for such aircraft in connection with their international commercial operations.

SUMMARY: Notice is hereby given that the Department of Commerce has determined that the Government of Bolivia has discontinued allowing substantially reciprocal tax exemptions to aircraft of U.S. registry in connection with international commercial operations similar to those exemptions currently granted to aircraft of Bolivian registry by the United States. The Department reached this determination after a review conducted pursuant to Section 4221 of the Internal Revenue Code, as amended (26 U.S.C. 4221).

The above-cited statute provides exceptions for aircraft of foreign registry from payment of certain internal revenue taxes on the purchase of supplies in the United States for such aircraft in connection with their international commercial operations. These exemptions apply upon a finding by the Secretary of Commerce, or his designee, and communicated to the Department of the Treasury, that such country allows, or will allow, “substantially reciprocal privileges” to aircraft of U.S. registry with respect to purchases of such supplies in that country. If a foreign country discontinues the allowance of such substantially reciprocal exemption, the exemption allowed by the United States will not apply after the Secretary of the Treasury is notified by the Secretary of Commerce, or his designee, of the discontinuance.

Interested parties were invited in a Federal Register Notice dated June 30, 2005, to submit their views, comments and supporting documentation in writing concerning this matter to the U.S. Department of Commerce. The Department then conducted its review. Those desiring additional information contact Mr. Eugene Alford, Office of Service Industries, Room 1104, U.S. Department of Commerce, Washington, DC 20230, or telephone 202-482-5071.

Dated: June 9, 2006.
Albert A. Frink,
Assistant Secretary for Manufacturing and Services.

[FR Doc. E6-9335 Filed 6-14-06; 8:45 am]

BILLING CODE 3510-DR-P